DEPARTMENT OF ENERGY

Federal Energy Regulatory Commission

[Docket Nos. RM01-12-000 and RT01-67-000]

Remedying Undue Discrimination Through Open Access Transmission Service and Standard Electricity Market Design, GridFlorida, LLC; Notice of Technical Conference

August 22, 2003.

As announced in the Notice of Technical Conference issued on June 18, 2003, a technical conference will be held on September 15, 2003, to discuss with state commissioners and market participants in the GridFlorida region the timetables for addressing wholesale power market design issues and to explore ways to provide flexibility the region may need to meet the requirements of the final rule in this proceeding. Members of the Commission will attend and participate in the discussion.

The conference will focus on the issues identified in the agenda, which is appended to this notice as Attachment A. However, participants/stakeholders may present their views on other important issues that relate to the development of the Wholesale Power Market Platform.

The conference will begin at 9:30 a.m. Eastern Time and will adjourn at about 3:30 p.m. Eastern Time at the offices of the Florida Public Service Commission, Room 148 Betty Easley Conference Center, 4075 Esplanade Way, Tallahassee, Florida. The conference is open for the public to attend, and registration is not required; however, in-person attendees are asked to register for the conference on-line at http://www.ferc.gov/whats-new/registration/smd_0915-form.asp.

Transcripts of the conference will be immediately available from Ace Reporting Company (202-347-3700 or 1-800-336-6646) for a fee. They will be available for the public on the Commission's eLibrary system seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

Questions about the conference program should be directed to:

Steve Rodgers, Director, Division of Tariffs & Market Development—South, Office of Markets, Tariffs & Rates, Federal Energy Regulatory Commission, 888 First Street, NE., Washington, DC 20426, (202) 502-8227, steve.rodgers@ferc.gov.

Sarah McKinley, Manager of State Outreach, Office of External Affairs, Federal Energy Regulatory Commission, 888 First Street, NE., Washington, DC 20426, (202) 502-8368, sarah.mckinley@ferc.gov.

Magalie R. Salas,
Secretary.

Appendix A—Agenda

9:30-9:45 a.m. Opening Remarks.

Lila A. Jaber, Chairman, Florida Public Service Commission, Pat Wood, III, Chairman, Federal Energy Regulatory Commission.

9:45-10:30 a.m. Discussion on the State of Florida Market.

Moderator: Roberta Bass, Florida PSC Staff.

Overview of Florida's Electric System: Ken Wiley, Florida Reliability Coordinating Council (FRCC).

Florida Statutory Framework: Susan Clark, Radey, Thomas, Yon, and Clark.

History and Status of GridFlorida: Mike Naeve, Skadden, Arps, Slate, Meagher & Flom.

10:30-11:15 a.m. Regional State Committees.

Moderator: Roberta Bass, Florida PSC Staff.

GridFlorida Applicants: Mike Naeve, Skadden, Arps, Slate, Meagher & Flom.

Municipals: Ed Regan, Gainesville Regional Utilities.

Independent Power Producers: Mike Green, Partnership for Affordable Competitive Energy. (PACE)

11:15-11:30 a.m. Break.

11:30-12:15 p.m. Discussion of Participant Funding Issues.

Moderator: Jim Dean, Florida PSC Staff.

GridFlorida Applicants: Bill Ashburn, Tampa Electric Company (TECO),

Independent Power Producers, Tim Eaves, Calpine Corporation,

Transmission Dependent Utility, Bob Williams, Florida Municipal Power Agency (FMPA).

12:15-1:15 p.m. Lunch.

1:15-2:30 p.m. Discussion of Market Design Issues.

Moderator: Tom Ballinger, Florida PSC Staff.

GridFlorida Applicants: Greg Ramon, Tampa Electric Company (TECO),

Independent Power Producers, John Orr, Reliant Energy,

Transmission Dependent Utility, Tim Woodbury, Seminole Electric Cooperative.

2:30-3 p.m. Next Steps for GridFlorida.

Florida Public Service Commission: Jennifer Brubaker, Florida PSC Staff.

GridFlorida Applicants: Ken Hoffman, Rutledge, Ecenia, Purnell & Hoffman

3-3:30 p.m. Discussion and Public Input. State and Federal Commissioners.

[FR Doc. 03-22110 Filed 8-28-03; 8:45 am]

BILLING CODE 6717-01-P